DEPARTMENT OF ENERGY

Federal Energy Regulatory Commission

[Project No. 137-002 California]

Pacific Gas and Electric; Notice of Availability of Final Environmental Assessment

May 17, 2001.

In accordance with the National Environmental Policy Act of 1969 and the Federal Energy Regulatory Commission's (Commission) regulations, 18 CFR part 380 (Order No. 486, 52 F.R. 47897), the Office of Energy Projects has reviewed the application for license for the Mokelumne River Hydroelectric Project, a complex of multiple reservoirs, diversions, conduits, and powerhouses on the North Fork Mokelumne River, east of Sacramento, California in Alpine, Amador, and Calaveras Counties and has prepared a Final Environmental Assessment (FEA) for the project. The project occupies federal lands managed by the USDA Forest Service (Eldorado and Stanislaus National Forests) and the USDI Bureau of Land Management.

The FEA contains the staff's analysis of the potential environmental impacts of the project and concludes that licensing the project, with appropriate environmental protective measures, would not constitute a major federal action that would significantly affect the quality of the human environment.

Copies of the FEA are available for review at the Commission's Public Reference Room, located at 888 First Street, NE., Washington, DC 20426, or by calling (202) 208-1371. The FEA may be viewed on the web at http://www.ferc.fed.us/online/rims.htm (call (202) 208-2222 for assistance).

For further information, contact Jim Fargo (202) 219-2848.

David P. Boergers,
Secretary.

[FR Doc. 01-12951 Filed 5-22-01; 8:45 am]

BILLING CODE 6717-01-M